DEPARTMENT OF ENERGY

Federal Energy Regulatory Commission

[Docket No. GT01-15-001]

Texas Eastern Transmission, LP; Notice of Errata Filing

May 4, 2001.

Take notice that on May 1, 2001, Texas Eastern Transmission, LP (Texas Eastern) tendered for filing as part of its FERC Gas Tariff, Seventh Revised Volume No. 1 and First Revised Volume No. 2, substitute tariff sheets to be effective April 16, 2001 as listed on Appendix A to the filing.

Texas Eastern states that the purpose of this filing is to reflect the correction of certain typographical and ministerial errors in some of the Original Tariff Sheets filed in Docket No. GT01-15-000 on April 12, 2001 and Texas Eastern requests the Commission to permit the substitution of these substitute tariff sheets for those corresponding sheets filed on April 12.

Texas Eastern states that copies of its filing have been mailed to all affected customers and interested state commissions and that the filing will be posted in a downloadable format on Texas Eastern's Informational Postings Web site located at www.link.duke-energy.com.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (Call 202-208-2222 for assistance). Comments, protests and interventions may be filed electronically via the internet in lieu of paper. See, 18 CFR 385.2001(a)(1)9ii) and the instructions on the Commission's web site at http://www.ferc.fed.us/efi/doorbell.htm.

David P. Boergers,
Secretary.

[FR Doc. 01-11779 Filed 5-9-01; 8:45 am]

BILLING CODE 6717-01-M